DEPARTMENT OF TRANSPORTATION

Federal Aviation Administration

14 CFR Part 39

[Docket No. FAA-2013-0573; Directorate Identifier 2012-SW-042-AD]

RIN 2120-AA64

Airworthiness Directives; Eurocopter France Helicopters

AGENCY: Federal Aviation Administration (FAA), DOT.

ACTION: Notice of proposed rulemaking (NPRM).

SUMMARY: We propose to adopt a new airworthiness directive (AD) for certain serial-numbered Eurocopter France (Eurocopter) Model AS332C1 and AS332L1 helicopters. This proposed AD would require replacing the rivets on the left-hand (LH) and right-hand (RH) Y350 longitudinal beams (longitudinal beams Y350). This proposed AD is prompted by a report that non-conforming rivets had been installed on an AS332 helicopter during a production modification. The proposed actions are intended to prevent failure of the longitudinal beams Y350 and subsequent loss of control of the helicopter.

DATES: We must receive comments on this proposed AD by September 3, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA Emergency AD No.: 2012-0046-E, dated March 21, 2012 (EAD 2012-0046-E), to correct an unsafe condition for Eurocopter Model AS332 C1 and AS332 L1 helicopters. EASA advises that an AS332 helicopter was found on the production line with non-conforming rivets installed on the RH and LH longitudinal beams Y350 of the bottom structure of the fuselage, between sections X4780 and X5295. According to EASA, the investigation revealed that a limited number of helicopters were documented as receiving a production modification requiring the replacement of certain 3.2 mm rivets with 4.8 mm rivets, but the actual replacement of the rivets had not been performed. EASA states that this condition leads to significant reduction in the safety margins during sling operations and may cause failure of the web/flange assembly connections of the longitudinal beams Y350, possibly resulting in loss of control of the helicopter. For these reasons, EASA issued EAD 2012-0046-E, which, pending inspection of the helicopter beams Y350 and replacement of the affected rivets, prohibits sling operations or limits the 3-ton sling to external loads of 2.28 tons or less.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

We reviewed Eurocopter Emergency Alert Service Bulletin No. 01.00.81 Revision 0, dated March 19, 2012 (EASB 01.00.81) for Model AS332 helicopters. The EASB describes procedures for temporarily prohibiting sling operations or limiting the use of the 3-ton sling to 2.28 tons until the 3.2 mm diameter rivets are replaced with 4.8 mm diameter rivets.

Proposed AD Requirements

This proposed AD would require, within 10 hours time in service (TIS), replacing the non-conforming 3.2 mm rivets, part-number (P/N) 212 15DC 3200J, on the longitudinal beams Y350 with airworthy 4.8 mm rivets, P/N 212 15DC 4800J.

Differences Between This Proposed AD and the EASA AD

The EASA AD requires limiting the use of the 3-ton sling, inspecting the longitudinal beams Y350 for loose or missing rivets, black marks around the rivets, and cracks, and, depending on the accumulated sling operation cycles, replacing the rivets within a period of up to 24 months. This proposed AD does not require the inspections as it would require replacing the rivets within 10 hours TIS, regardless of accumulated sling operation cycles.

Costs of Compliance

We estimate that this proposed AD would affect 1 helicopter of U.S. Registry. We estimate that operators may incur the following costs in order to comply with this AD. Modifying the longitudinal beams Y350 with 4.8 mm rivets would require about 24 work-hours at an average labor rate of $85 per hour and required parts would cost about $110, for a total cost per helicopter of $2,150. Thus, the total cost to U.S. operators to comply with the proposed AD would be about $2,150.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2013-0573; Directorate Identifier 2012-SW-042-AD.

(a) Applicability

This AD applies to Eurocopter France Model AS332C1 and AS332L1 helicopters with the following serial numbers, certificated in any category: 2494, 2497, 2499, 2501, 2507, 2510, 2513, 2517, 2523, 2524, 2526, 2528, 2531, 2533, 2538, 2544, 2546, 2548, 2550, 2553, 2556, 2558, 2561, 2563, 2566, 2568, 2569, 2571, 2635, 2641, 2644, 2649, 2652, 2657, 2665, 2667, 2669, 2671, 2682, 2683, 2686, 2689, 2694, 2696, 2700, 2704, 2705, 2706, 2710, 2713, 2717, 2720, 2726, 2733, 2737, 2738, 2748, 2751, 2754, 2757, 2758, 2761, 2763, 2765, 2774, 2780, 2787, 2800, 2807, 2816, 2820, 2833, 9007, 9008, 9009 and 9010.

(b) Unsafe Condition

This AD defines the unsafe condition as non-conforming rivets installed on the left-hand (LH) and right-hand (RH) Y350 longitudinal beams (longitudinal beams Y350) of the bottom structure. This condition could result in failure of the web/flange assembly connections of the longitudinal beams Y350 and subsequent loss of control of the helicopter.

(c) Comments Due Date

We must receive comments by September 3, 2013.

(d) Compliance

You are responsible for performing each action required by this AD within the specified compliance time unless it has already been accomplished prior to that time.

(e) Required Actions

Within 10 hours time-in-service, replace the 3.2 mm rivets, part-number (P/N) 21215DC3200J, of the RH and LH longitudinal beams Y350 of the bottom structure with 4.8 mm rivets, P/N 21215DC4800J, as shown in Figures 2 and 3 of Eurocopter Emergency Alert Service Bulletin No. 01.00.81, Revision 0, dated March 19, 2012.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) Emergency AD No.: 2012-0046-E, dated March 21, 2012. You may view the EASA AD at www.regulations.gov in Docket No. FAA-2013-0573.

(h) Subject

Joint Aircraft Service Component (JASC) Code: 5314: Fuselage Main, Keel.

Issued in Fort Worth, Texas, on June 21, 2013.
Kim Smith,
Directorate Manager, Rotorcraft Directorate, Aircraft Certification Service.

[FR Doc. 2013-15964 Filed 7-2-13; 8:45 am]

BILLING CODE 4910-13-P